DEPARTMENT OF TRANSPORTATION

Federal Aviation Administration

14 CFR Part 39

[Docket No. FAA-2009-0782; Directorate Identifier 2009-NM-011-AD; Amendment 39-16181; AD 2010-02-10]

RIN 2120-AA64

Airworthiness Directives; Airbus Model A330-201, -202, -203, -223, -243, -301, -302, -303, -321, -322, -323, -341, -342, and -343 Series Airplanes; Model A340-211, -212, -213, -311, -312, and -313 Series Airplanes; and Model A340-541 and -642 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

During a scheduled maintenance inspection on the MLG [main landing gear], the bogie stop pad was found deformed and cracked. Upon removal of the bogie stop pad for replacement, the bogie beam was also found cracked.

* * * * *

A second bogie beam crack has subsequently been found on another aircraft, located under a bogie stop pad which only had superficial paint damage.

This condition, if not detected and corrected, could result in the aircraft departing the runway or to the bogie detaching from the aircraft or gear collapses, which would all constitute unsafe conditions at speeds above 30 knots.

* * * * *

We are issuing this AD to require actions to correct the unsafe condition on these products.

DATES: This AD becomes effective March 4, 2010. The Director of the Federal Register approved the incorporation by reference of certain publications listed in this AD as of March 4, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on September 4, 2009 (74 FR 45781). That NPRM proposed to correct an unsafe condition for the specified products. The MCAI states:

During a scheduled maintenance inspection on the MLG [main landing gear], the bogie stop pad was found deformed and cracked. Upon removal of the bogie stop pad for replacement, the bogie beam was also found cracked.

Laboratory investigation indicates that an overload event has occurred and no fatigue propagation of the crack was evident. An investigation is still underway to establish the root cause of this overload.

A second bogie beam crack has subsequently been found on another aircraft, located under a bogie stop pad which only had superficial paint damage.

This condition, if not detected and corrected, could result in the aircraft departing the runway or to the bogie detaching from the aircraft or gear collapses, which would all constitute unsafe conditions at speeds above 30 knots.

As a precautionary measure, this AD requires detailed inspections under the bogie stop pad of both MLG bogie beams and, in case deformation or damage is detected, to apply the associated repair.

The one-time inspections consist of the following:

• Inspection for corrosion and damage to the paint and cadmium plate of the sliding piston subassembly.

• Inspection for cracking and deformation of the top and bottom surfaces and bolt holes of the bogie stop pad subassembly and bracket.

• Inspection for cracking, corrosion, and damage to protective treatments, and deformation of the bogie beam surface of the bogie beam subassembly where the bogie stop pad subassembly has been removed, and a magnetic particle non-destructive test inspection of the bogie beam assembly where the bogie stop pad subassembly has been removed.

Corrective actions include repairing protective treatments, removing corrosion, and replacing the bogie stop pad if necessary. For airplanes on which a crack or deformation in the bogie beam is found, corrective actions include contacting Messier-Dowty Limited and/or Airbus for instructions for repair, and repairing before further flight.

You may obtain further information by examining the MCAI in the AD docket.

Comments

We gave the public the opportunity to participate in developing this AD. We considered the comments received.

Correction of Labor Estimate

Air Transport Association (ATA), on behalf of its member Northwest Airlines (NWA), states that the labor estimates are significantly underestimated in the proposed AD. NWA states that the NPRM estimate of 2 work-hours should be revised to specify 18 work-hours, based on work-hours listed in the vendor service bulletins.

We agree that the labor estimates are underestimated. The service bulletins cited in the proposed AD call for a total of 4 work-hours, but only to get access. The Airbus service bulletins refer to the vendor service bulletins for inspection time and repair. The vendor service bulletins identify up to 8 work-hours per bogie beam for a total of up to 16 work-hours for the inspection per airplane. However, we have not included the time to perform on-condition actions, such as repair. The “Cost of Compliance” section has been changed accordingly.

Clarification of Compliance Times and Affected Airplanes

The ATA, on behalf of its member NWA, states that clarification of the compliance time is needed in paragraphs (f)(1)(ii), (f)(1)(iii), and (f)(1)(iv) of the proposed AD. Where the paragraphs specify time or flight cycles on the new or overhauled bogie beam, the operator proposes to refer to the time or flight cycles from the installation date of the new or overhauled bogie beam in service.

We agree and have made changes to paragraphs (f)(1)(ii), (f)(1)(iii), and (f)(1)(iv) of this AD accordingly. Similar changes have been made to paragraphs (f)(1)(v) and (f)(1)(vi) of this AD.

Explanation of Changes Made To This AD

We have revised this AD to identify the legal name of the manufacturer as published in the most recent type certificate data sheet for the affected airplane models.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 52 products of U.S. registry. We also estimate that it will take about 16 work-hours per product to comply with the basic requirements of this AD. The average labor rate is $80 per work-hour. Based on these figures, we estimate the cost of this AD to the U.S. operators to be $66,560, or $1,280 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-02-10 AIRBUS: Amendment 39-16181. Docket No. FAA-2009-0782; Directorate Identifier 2009-NM-011-AD.

Effective Date

(a) This airworthiness directive (AD) becomes effective March 4, 2010.

Affected ADs

(b) None.

Applicability

(c) This AD applies to Airbus Model A330-201, -202, -203, -223, -243, -301, -302, -303, -321, -322, -323, -341, -342, and -343 series airplanes; Model A340-211, -212, -213, -311, -312, -313 series airplanes; and Model A340-541 and -642 airplanes; all serial numbers; certificated in any category.

Subject

(d) Air Transport Association (ATA) of America Code 32: Landing gear.

Reason

(e) The mandatory continuing airworthiness information (MCAI) states:

During a scheduled maintenance inspection on the MLG [main landing gear], the bogie stop pad was found deformed and cracked. Upon removal of the bogie stop pad for replacement, the bogie beam was also found cracked.

Laboratory investigation indicates that an overload event has occurred and no fatigue propagation of the crack was evident. An investigation is still underway to establish the root cause of this overload.

A second bogie beam crack has subsequently been found on another aircraft, located under a bogie stop pad which only had superficial paint damage.

This condition, if not detected and corrected, could result in the aircraft departing the runway or to the bogie detaching from the aircraft or gear collapses, which would all constitute unsafe conditions at speeds above 30 knots.

As a precautionary measure, this AD requires detailed inspections under the bogie stop pad of both MLG bogie beams and, in case deformation or damage is detected, to apply the associated repair.

Actions and Compliance

(f) Unless already done, do the following actions.

(1) At the applicable compliance time specified in paragraph (f)(1)(i), (f)(1)(ii), (f)(1)(iii), (f)(1)(iv), (f)(1)(v), or (f)(1)(vi) of this AD, perform one-time detailed inspections of both main landing gear bogie beams in the region of the bogie stop pad for detection of deformation and damage, and apply the applicable corrective actions, in accordance with instructions defined in the Airbus mandatory service bulletins listed in Table 1 of this AD, as applicable. Do all applicable corrective actions before further flight.

(i) Airplanes with 22 months or less and 2,500 flight cycles or less from the first flight with the original bogie beam as of the effective date of this AD: Not earlier than 2,500 flight cycles or 22 months on the original bogie beam, whichever occurs first, but not later than 40 months from first flight.

(ii) Airplanes with 22 months or less and 2,500 flight cycles or less from the installation date of a new bogie beam in service as of the effective date of this AD: Not earlier than 2,500 flight cycles or 22 months from the installation date of the new bogie beam, whichever occurs first, but no later than 40 months from the installation date of a new bogie beam in service.

(iii) Airplanes with 22 months or less and 2,500 flight cycles or less from the installation date of an overhauled bogie beam in service as of the effective date of this AD: Not earlier than 2,500 flight cycles or 22 months from the installation date of the overhauled bogie beam in service, whichever occurs first, but no later than 40 months from the installation date of the overhauled bogie beam in service.

(iv) Airplanes with more than 22 months or more than 2,500 flight cycles from the first flight with the original bogie beam, as of the effective date of this AD: Within 18 months after the effective date of this AD.

(v) Airplanes with more than 22 months or more than 2,500 flight cycles from the installation date of a new bogie beam in service, as of the effective date of this AD: Within 18 months after the effective date of this AD.

(vi) Airplanes with more than 22 months or more than 2,500 flight cycles from the installation date of an overhauled bogie beam in service, as of the effective date of this AD: Within 18 months after the effective date of this AD.

Table 1—Service Bulletins
For model— | Use Airbus Mandatory Service Bulletin— | Dated—
A330-201, -202, -203, -223, -243, -301, -302, -303, -321, -322, -323, -341, -342, -343 series airplanes | A330-32-3220 | October 10, 2008.
A340-211, -212, -213, -311, -312, -313 series airplanes | A340-32-4264 | October 10, 2008.
A340-541, -642 airplanes | A340-32-5087 | October 10, 2008.

(2) Report the results of the inspection required by paragraph (f)(1) of this AD, including no findings, to Airbus, Customer Services Directorate, 1 Rond Point Maurice Bellonte, 31707 Blagnac Cedex France; Attn: SEDCC1 Technical Data and Documentation Services; Fax (+33) 5 61 93 28 06; e-mail sb.reporting@airbus.com; at the applicable time specified in paragraph (f)(2)(i) or (f)(2)(ii) of this AD.

(i) If the inspection is done on or after the effective date of this AD: Submit the report within 30 days after the inspection.

(ii) If the inspection was accomplished prior to the effective date of this AD: Submit the report within 30 days after the effective date of this AD.

FAA AD Differences

Note 1: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency (EASA) Airworthiness Directive 2008-0223, dated December 15, 2008, and the Airbus mandatory service bulletins listed in Table 1 of this AD, for related information.

Material Incorporated by Reference

(i) You must use the service information contained in Table 2 of this AD, as applicable, to do the actions required by this AD, unless the AD specifies otherwise.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; fax +33 5 61 93 45 80; e-mail airworthiness.A330-A340@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Table 2—Material Incorporated by Reference
Airbus Mandatory Service Bulletin— | Dated—
A330-32-3220 | October 10, 2008.
A340-32-4264 | October 10, 2008.
A340-32-5087 | October 10, 2008.

Issued in Renton, Washington, on January 14, 2010.
Ali Bahrami,
Manager, Transport Airplane Directorate, Aircraft Certification Service.

[FR Doc. 2010-1277 Filed 1-27-10; 8:45 am]

BILLING CODE 4910-13-P